DEPARTMENT OF COMMERCE

International Trade Administration

A-570-803

Administrative Review (02/01/2005 01/31/2006) of Heavy Forged Hand Tools, Finished or Unfinished, With or Without Handles, from the People's Republic of China: Notice of Rescission of Antidumping Duty Administrative Reviews

AGENCY: Import Administration, International Trade Administration, Department of Commerce.

EFFECTIVE DATE: September 11, 2006.

FOR FURTHER INFORMATION CONTACT: Mark Flessner or Robert James, AD/CVD Operations, Office 7, Import Administration, International Trade Administration, U.S. Department of Commerce, 14th Street and Constitution Avenue, NW, Washington, DC 20230; telephone: (202) 482 6312 or (202) 482-0649, respectively.

SUPPLEMENTARY INFORMATION:

Background

On February 1, 2006, the Department of Commerce (the Department) published in the Federal Register (71 FR 5239) a notice of “Opportunity to Request an Administrative Review” of the antidumping duty order on heavy forged hand tools, finished or unfinished, with or without handles (heavy forged hand tools), from the People's Republic of China (PRC) for the period of review (POR) covering February 1, 2005, through January 31, 2006.

On February 24, 2006, respondents Shandong Machinery Import and Export Corporation and Tianjin Machinery Import and Export Corporation requested administrative reviews of their companies for this POR. On February 27, 2006, respondents Shanghai Machinery Import & Export Corp., Shandong Huarong Machinery Co., and Shandong Jinma Industrial Group Co., Ltd. requested administrative reviews of their companies for this POR. On February 28, 2006, petitioner Council Tool Company requested administrative reviews of Shandong Huarong Machinery Co., Ltd., Shandong Machinery Import and Export Corporation, Tianjin Machinery Import and Export Corporation, Shanghai Xinke Trading Company, Iron Bull Industrial Co., Ltd., and Jafsam Metal Products for this POR. Also on February 28, 2006, petitioner Ames True Temper requested administrative reviews of Shandong Huarong Machinery Co., Ltd., Shandong Machinery Import and Export Corporation, Tianjin Machinery Import and Export Corporation, Iron Bull Industrial Co., Ltd., and Truper Herramientas S.A. de C.V. for this POR.

On April 5, 2006, the Department initiated an administrative review of the antidumping duty orders listed below on heavy forged hand tools from the PRC covering the POR February 1, 2005, through January 31, 2006, with respect to the listed companies:

Axes/Adzes

A-570-803

Iron Bull Industrial Co., Ltd.

Jafsam Metal Products

Shanghai Machinery Import & Export Corp.

Shanghai Xinke Trading Company

Shandong Huarong Machinery Co., Ltd.

Shandong Jinma Industrial Group Co., Ltd.

Shandong Machinery Import and Export Corporation

Tianjin Machinery Import and Export Corporation

Truper Herramientas S.A. de C.V.

Bars/Wedges

A-570-803

Iron Bull Industrial Co., Ltd.

Jafsam Metal Products.

Shanghai Machinery Import & Export Corp.

Shanghai Xinke Trading Company

Shandong Huarong Machinery Co., Ltd.

Shandong Jinma Industrial Group Co., Ltd.

Shandong Machinery Import and Export Corporation

Tianjin Machinery Import and Export Corporation

Truper Herramientas S.A. de C.V.

Hammers/Sledges

A-570-803

Iron Bull Industrial Co., Ltd.

Jafsam Metal Products

Shanghai Machinery Import & Export Corp.

Shanghai Xinke Trading Company

Shandong Huarong Machinery Co., Ltd.

Shandong Jinma Industrial Group Co., Ltd.

Shandong Machinery Import and Export Corporation

Tianjin Machinery Import and Export Corporation

Picks/Mattocks

A-570-803

Iron Bull Industrial Co., Ltd.

Jafsam Metal Products

Shanghai Machinery Import & Export Corp.

Shanghai Xinke Trading Company

Shandong Huarong Machinery Co., Ltd.

Shandong Jinma Industrial Group Co., Ltd.

Shandong Machinery Import and Export Corporation

See Initiation of Antidumping and Countervailing Duty Administrative Reviews and Deferral of Administrative Reviews, 71 FR 17077 (April 5, 2006).

Rescission of Reviews

Section 351.213(d)(1) of the Department's regulations stipulates that the Secretary will rescind an administrative review if the party that requests a review withdraws the request within 90 days of the date of publication of notice of initiation of the requested review. In each of the instances cited in the paragraphs below, the parties who requested the administrative reviews have withdrawn their requests for review within the 90-day period. Therefore, we rescind the following reviews with regard to the firms and merchandise specified in the following paragraphs.

On April 18, 2006, respondent Shandong Jinma Industrial Group Co., Ltd. withdrew its request for an administrative review of its sales during the above-referenced POR. Respondent was the sole party to request this review. Therefore, the Department is rescinding the review of the antidumping duty order on heavy forged hand tools in all classes or kinds with regard to Shandong Jinma Industrial Group Co., Ltd.

On April 24, 2006, respondent Shanghai Machinery Import & Export Corp. withdrew its request for an administrative review of its sales during the above-referenced POR. Respondent was the sole party to request this review. Therefore, the Department is rescinding the review of the antidumping duty order on heavy forged hand tools in all classes or kinds with regard to Shanghai Machinery Import & Export Corp.

On April 26, 2006, petitioner Ames True Temper withdrew its request for an administrative review of the sales of Truper Herramientas S.A. de C.V. during the above-referenced POR. Petitioner was the sole party to request this review. Therefore, the Department is rescinding the review of the antidumping duty order on heavy forged hand tools in all classes or kinds with regard to Truper Herramientas S.A. de C.V.

On April 18, 2006, respondent Tianjin Machinery Import and Export Corporation withdrew its request for an administrative review of its sales during the above-referenced POR. On June 13, 2006, petitioner Ames True Temper withdrew its request for an administrative review of the sales of Tianjin Machinery Import and Export Corporation with respect to the classes or kinds axes/adzes, hammers/sledges, and bars/wedges. On June 29, 2006, petitioner Council Tool Company withdrew its request for an administrative review of the sales of Tianjin Machinery Import and Export Corporation with respect to the classes or kinds axes/adzes, hammers/sledges, and bars/wedges. Therefore, the Department is rescinding the review of the antidumping duty order on heavy forged hand tools in the classes or kinds axes/adzes, hammers/sledges, and bars/wedges with regard to Tianjin Machinery Import and Export Corporation.

On April 19, 2006, respondent Shandong Huarong Machinery Co. withdrew its request for an administrative review of its sales during the above-referenced POR. On June 13, 2006, petitioner Ames True Temper withdrew its request for an administrative review of the sales of Shandong Huarong Machinery Co. with respect to the classes or kinds axes/adzes and bars/wedges. On June 29, 2006, petitioner Council Tool Company withdrew its request for an administrative review of the sales of Shandong Huarong Machinery Co. with respect to the classes or kinds axes/adzes and bars/wedges. Therefore, the Department is rescinding the review of the antidumping duty order on heavy forged hand tools in the classes or kinds axes/adzes and bars/wedges with regard to Shandong Huarong Machinery Co.

On June 13, 2006, petitioner Ames True Temper withdrew its request for an administrative review of the sales of Iron Bull Industrial Co., Ltd. with respect to the class or kind bars/wedges. On June 29, 2006, petitioner Council Tool Company withdrew its request for an administrative review of the sales of Iron Bull Industrial Co., Ltd. with respect to the class or kind bars/wedges. On July 6, 2006, Iron Bull Industrial Co., Ltd. requested administrative review of its company for this POR. On July 17, 2006, the Department denied Iron Bull Industrial Co., Ltd.'s request as untimely in accordance with section 351.213(b) of the Department's regulations since the request was made more than four months after the end of the anniversary month. Therefore, the Department is rescinding the review of Iron Bull Industrial Co., Ltd. with respect to the class or kind bars/wedges.

This notice is published in accordance with sections 751(a)(1) of the Tariff Act of 1930, as amended, and 19 CFR 351.213(d)(4).

Dated: August 31, 2006.
Stephen J. Claeys,
Deputy Assistant Secretary for Import Administration.

[FR Doc. E6-14917 Filed 9-8-06; 8:45 am]

BILLING CODE 3510-DS-S